DEPARTMENT OF DEFENSE

Office of the Secretary

32 CFR Part 337

[Docket ID: DOD-2019-OS-0004]

RIN 0790-AK48

Availability of DoD Directives, DoD Instructions, DoD Publications, and Changes

AGENCY: Office of the Secretary, DoD.

ACTION: Final rule.

SUMMARY: This final rule removes DoD's obsolete regulation which established a subscription service that entitled subscribers to receive new and revised DoD issuances cleared for public release. This rule predated the free, publicly available, online collection of DoD Directives, Instructions, Publications, and Changes. The subscription service was discontinued, and the content of this rule is obsolete.

DATES: This rule is effective on March 1, 2019.

FOR FURTHER INFORMATION CONTACT: Morgan E. Park at 571-372-0489.

SUPPLEMENTARY INFORMATION: It has been determined that publication of this rule removal in the CFR for public comment is impracticable, unnecessary, and contrary to public interest since it is based on removing obsolete information. This regulation was last updated on December 10, 1991 (56 FR 64482), prior to the discontinuation of the subscription service. DoD issuances are publicly available on the DoD Directives Division's website: http://www.esd.whs.mil/DD/DoD-Issuances/.

This rule is not significant under Executive Order (E.O.) 12866, “Regulatory Planning and Review,” therefore, E.O. 13771, “Reducing Regulation and Controlling Regulatory Costs” does not apply.

List of Subjects in 32 CFR Part 337

Freedom of information, Government publications.

PART 337—[REMOVED]

Accordingly, by the authority of 5 U.S.C. 301, 32 CFR part 337 is removed.

Dated: February 26, 2019.
Shelly E. Finke,
Alternate OSD Federal Register Liaison Officer, Department of Defense.

[FR Doc. 2019-03674 Filed 2-28-19; 8:45 am]

BILLING CODE 5001-06-P